DEPARTMENT OF DEFENSE

Department of the Army; Corps of Engineers

Intent To Prepare a Draft Environmental Impact Statement for the C-111 Spreader Canal Project

AGENCY: Department of the Army, U.S. Army Corps of Engineers, DoD.

ACTION: Notice of intent.

SUMMARY: The Jacksonville District, U.S. Army Corps of Engineers (Corps), intends to prepare an integrated Project Implementation Report (PIR) and Draft Environmental Impact Statement (DEIS) for the C-111 Spreader Canal Project study. The study is a cooperative effort between the Corps and the South Florida Water Management District (SFWMD), which is also a cooperative agency for this DEIS. C-111 is the southernmost canal of the Central and Southern Florida (C&SF) Project and is located in southern Miami-Dade County. The canal functions primarily to provide flood protection and drainage for the agricultural areas to the west and south of Homestead, as well as providing a means to deliver water to Taylor Slough in Everglades National Park. Environmentally detrimental effects have resulted from the construction of the canal, including large scale releases of freshwater to Manatee Bay, disruption and redirection of the natural sheet flow pattern over the marsh, and declining fish catches and productivity in northeastern Florida Bay and Barnes Sound, due to highly variable salinities. The final report of the C&SF Comprehensive Review Study (RESTUDY) recommended implementing the C-111 North Spreader Canal Project, now called simply the C-111 Spreader Canal Project. This project will evaluate alternatives to construct, modify, or remove levees, canals, pumps and water control structures, in order to reestablish a more natural water sheet flow pattern through the Model Lands and Southern Glades to Florida Bay, and may include a storm water treatment area.

FOR FURTHER INFORMATION CONTACT: U.S. Army Corps of Engineers, Planning Division, Environmental Branch, P.O. Box 4970, Jacksonville, Florida, 32232-0019; Attn: Ms. Barbara Cintron or by telephone at 904-232-1692.

SUPPLEMENTARY INFORMATION: a. Authorization: Section 601(c)(x) of the Water Resources Development Act of 2000 (Pub. L. 106-541) authorized the implementation of the C-111 N Spreader Canal Project.

b. Study Area: The study area is in sections of the Model Lands and the Southern Glades, in southern Miami-Dade County.

c. Project Scope: The scope is to provide water deliveries to the project lands that will enhance connectivity between the natural areas of the Southern Glades and Model Lands, provide natural sheet flow to Florida Bay by eliminating point sources of freshwater discharges through the C-111 Canal to Manatee Bay and Barnes Sound. Pumps and spreader canal features have been proposed to connect the Southern Glades and Model Lands hydrologically. The evaluation of alternatives and selection of a recommended plan will be documented in the Project Implementation Report and EIS.

d. Preliminary Alternatives: Backfilling C-110 and a portion of the C-111 Canal and removing water control structures S-18C and S-197 would re-establish the sheet flow pattern of water distribution. Further plan formulation will determine the location and design of the spreader canal, storm water treatment area and pump stations, and will explore other ways of addressing project objectives.

e. Issues: The EIS will address the following issues: the relation between this project and the Modified Water Deliveries and C-111 projects; impacts to South Miami-Dade County agricultural and urban lands, impacts to aquatic and wetland habitats; water flows; hazardous and toxic wastes; water quality; flood protection; the impacts of land acquisition on the tax base; aesthetics and recreation; fish and wildlife resources, including protected species; cultural resources; and other impacts identified through scoping, public involvement and interagency coordination.

f. Scoping: A scoping letter and public workshops will be used to invite comments on alternatives and issues from Federal, State, and local agencies, affected Indian tribes, and other interested private organizations and individuals. The next public workshop is scheduled for May 22, 2002, at the Miami-Dade Extension Office, located at 18710 SW 288th Street, Homestead, Florida. The meeting will begin at 6:30 p.m. and continue to 10 p.m.

g. DEIS Preparation: The integrated draft PIR, including a DEIS, is currently scheduled for publication in June 2004.

Luz D. Ortiz,
Army Federal Register Liaison Officer.

[FR Doc. 02-12187 Filed 5-15-02; 8:45 am]

BILLING CODE 3710-AJ-M